DEPARTMENT OF COMMERCE

National Oceanic and Atmospheric Administration

[I.D. 061804A]

New England Fishery Management Council; Public Meetings

AGENCY: National Marine Fisheries Service (NMFS), National Oceanic and Atmospheric Administration (NOAA), Commerce

ACTION: Notice of a public meeting.

SUMMARY: The New England Fishery Management Council (Council) is scheduling a public meeting of its Herring Advisory Panel and Oversight Committee along with the Atlantic States Marine Fisheries Commission (ASMFC) Herring Advisory Panel and Section in July, 2004. Recommendations from these committees will be brought to the full Council for formal consideration and action, if appropriate.

DATES: The meeting will held on Monday, July 12, 2004; the Council and ASMFC advisory panels will meet jointly from 9:30 a.m. until 1:30 p.m. and a joint meeting of the Herring Committee and the ASMFC Herring Section will meet from 3 p.m. until 6:30 p.m.

ADDRESSES: The meeting will be held at the Holiday Inn by the Bay, 88 Spring Street, Portland, ME 04101; telephone: (207) 775-2311.

Council address: New England Fishery Management Council, 50 Water Street, Newburyport, MA 01950.

FOR FURTHER INFORMATION CONTACT: Paul J. Howard, Executive Director, New England Fishery Management Council; telephone: (978) 465-0492.

SUPPLEMENTARY INFORMATION: When the Herring Advisory Panels meet from 9:30 a.m. to 1:30 p.m., they will review Herring Plan Development Team (PDT) and ASMFC Technical Committee (TC) analyses of TAC options and other elements of herring fishery specifications for 2005; provide advisory panel recommendation regarding final selection of 2005 specifications. They will also discuss data issues regarding limited access qualification criteria proposed in Amendment 1; develop advisory panel recommendation and discuss other elements of Amendment 1.

When the Herring Oversight Committee and ASMFC Section meet from 3 p.m. to 6:30 p.m., they will review Herring PDT/TC analyses of TAC options and other elements of herring fishery specifications for 2005; review advisory panel recommendations; develop Committee/Section recommendations regarding final selection of 2005 specifications for Council consideration. They will also discuss data issues regarding limited access qualification criteria proposed in Amendment 1; review advisory panel recommendations; develop committee recommendation for Council consideration and discuss other elements of Amendment 1.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: June 23, 2004.
Alan D. Risenhoover,
Acting Director, Office of Sustainable Fisheries, National Marine Fisheries Service.

[FR Doc. E4-1430 Filed 6-25-04; 8:45 am]

BILLING CODE 3510-22-S